DEPARTMENT OF COMMERCE

Foreign-Trade Zones Board

[Order No. 1652]

Approval for Expansion of Manufacturing Authority for Subzone 31B; WRB Refining LLC (Oil Refinery), Madison County, IL

Pursuant to its authority under the Foreign-Trade Zones Act of June 18, 1934, as amended (19 U.S.C. 81a-81u), the Foreign-Trade Zones Board (the Board) adopts the following Order:

Whereas, the Tri-City Regional Port District, grantee of FTZ 31, has requested authority on behalf of WRB Refining LLC, to expand the scope of manufacturing activity conducted under zone procedures within Subzone 31B at the WRB Refining LLC oil refinery complex at sites in Madison County, Illinois (FTZ Docket 11-2009, filed 03-12-2009);

Whereas, notice inviting public comment has been given in the Federal Register (74 FR 11907, 3/20/2009); and,

Whereas, the Board adopts the findings and recommendations of the examiner's report, and finds that the requirements of the FTZ Act and the Board's regulations would be satisfied, and that approval of the application would be in the public interest if approval is subject to the conditions listed below;

Now, therefore, the Board hereby approves the expansion of the scope of activity at Subzone 31B for the manufacture of petroleum products at the WRB Refining LLC oil refinery complex located at sites in Madison County, Illinois, as described in the application and the Federal Register notice, subject to the FTZ Act and the Board's regulations, including § 400.28, and further subject to the following conditions:

1. Foreign status (19 CFR 146.41, 146.42) products consumed as fuel for the refinery shall be subject to the applicable duty rate.

2. Privileged foreign status (19 CFR 146.41) shall be elected on all foreign merchandise admitted to the subzone, except that non-privileged foreign (NPF) status (19 CFR 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

—Petrochemical feedstocks and refinery by-products (examiners report, Appendix “C”);

—Products for export; and

—Products eligible for entry under HTSUS # 9808.00.30 and # 9808.00.40 (U.S. Government purchases).

Signed at Washington, DC, this 13th day of November 2009.
Ronald K. Lorentzen,
Acting Assistant Secretary of Commerce for Import Administration, Alternate Chairman, Foreign-Trade Zones Board.
Attest:
Andrew McGilvray,
Executive Secretary.

[FR Doc. E9-28765 Filed 11-30-09; 8:45 am]

BILLING CODE 3510-DS-P